DEPARTMENT OF EDUCATION

Advisory Committee on Student Financial Assistance: Hearing

AGENCY: Advisory Committee on Student Financial Assistance, Education.

ACTION: Notice of an open meeting/public hearing.

SUMMARY: This notice sets forth the schedule and proposed agenda of a forthcoming open meeting/public hearing for the Advisory Committee on Student Financial Assistance (the Advisory Committee). This notice also describes the functions of the Advisory Committee. Notice of the meeting/hearing is required under Section 10(a)(2) of the Federal Advisory Committee Act. This document is intended to notify the general public.

Date and Time: Thursday, March 17, 2011, beginning at 9:00 a.m. and ending at approximately 5 p.m.

ADDRESSES: Four Points by Sheraton, Franklin Room, 1201 K Street, NW., Washington, DC 20005.

FOR FURTHER INFORMATION CONTACT: Ms. Alison Bane, Associate Director of Government Relations, Advisory Committee on Student Financial Assistance, Capitol Place, 80 F Street, NW., Suite 413, Washington, DC 20202-7582, (202) 219-2099.

Individuals who use a telecommunications device for the deaf (TDD) may call the Federal Information Relay Service (FRS) at 1-800-8339.

SUPPLEMENTAL INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act, and to make recommendations that will result in the maintenance of access to postsecondary education for low- and middle-income students. In addition, Congress expanded the Advisory Committee's mission in the Higher Education Amendments of 1998 to include several important areas: access, Title IV modernization, distance education, and early information, and needs assessment. Specifically, the Advisory Committee is to review, monitor, and evaluate the Department of Education's progress in these areas and report recommended improvements to Congress and the Secretary.

The March 17 meeting/hearing in Washington, DC, will consist of two sessions. The first session will be a roundtable discussion among experts regarding issues associated with the design and use of the institutional net price calculators mandated by Congress in the Higher Education Opportunity Act of 2008. The second session will be a panel discussion among experts of the nontraditional student population and the barriers to access and persistence that they face today. The third session will consist of a public comment session: five minutes will be allotted to those who request the opportunity to comment on one or both of the topics above. To participate in session three, please send an e-mail to ACSFA@ed.gov noting your topic. We must receive your comments on or before March 9, 2011. Space is limited. Advisory Committee staff will contact presenters prior to the meeting/hearing.

Individuals who will need accommodations for a disability in order to attend the event (i.e., interpreting services, assistive listening devices, and/or materials in alternative format) should notify the Advisory Committee no later than Friday, March 4, 2011, by contacting Ms. Tracy Jones at (202) 219-2099 or via email at tracy.deanna.jones@ed.gov. We will attempt to meet requests after this date, but cannot guarantee availability of the requested accommodation. The event site is accessible to individuals with disabilities.

Space for this event is limited and you are encouraged to register early if you plan to attend. You may register on the Advisory Committee's Web site, http://www.ed.gov/ACSFA or by sending an e-mail to the following address: ACSFA@ed.gov or Tracy.Deanna.Jones@ed.gov. Please include your name, title, affiliation, complete address (including internet and e-mail address, if available), and telephone and fax numbers. If you are unable to register electronically, you may fax your registration information to the Advisory Committee staff office at (202) 219-3032. You may also contact the Advisory Committee staff directly at (202) 219-2099. The registration deadline is Wednesday, March 9, 2011.

Records are kept for Advisory Committee proceedings, and are available for inspection at the Office of the Advisory Committee on Student Financial Assistance, Capitol Place, 80 F Street, NW.,—Suite 413, Washington, DC, from the hours of 9:00 a.m. to 5:30 p.m. Monday through Friday, except Federal holidays. Information regarding the Advisory Committee is available on the Committee's Web site, http://www.ed.gov/ACSFA.

Electronic Access to This Document: You may view this document, as well as other documents of this Department published in the Federal Register, in text or Adobe Portable Document Format (PDF) on the Internet at the following site: http://www.ed.gov/news/fedregister/index.html.

To view in PDF you must have Adobe Acrobat Reader, which is available free at this site. If you have questions about using PDF, call the U.S. Government Printing Office (GPO), toll free at 1-866-512-1830, or in the Washington, DC, area at (202) 512-1800.

Note: The official version of this document is the document published in the Federal Register. Free Internet access to the official edition of the Federal Register and the Code of Federal Regulations is available on GPO Access at: http://www.gpoaccess.gov/nara/index.html.

Dated: February 3, 2011.
William J. Goggin,
Executive Director, Advisory Committee on Student Financial Assistance.

[FR Doc. 2011-3030 Filed 2-9-11; 8:45 am]

BILLING CODE 4000-01-P